DEPARTMENT OF TRANSPORTATION

National Highway Traffic Safety Administration

[Docket No. NHTSA-2018-0094]

Agency Information Collection Activities; Submission to the Office of Management and Budget for Review and Approval; Request for Comment; Fatality Analysis Reporting System; Correction

AGENCY: National Highway Traffic Safety Administration (NHTSA), Department of Transportation (DOT).

ACTION: Notice; correction.

SUMMARY: The National Highway Traffic Safety Administration (NHTSA) published a document in the Federal Register of April 25, 2019, concerning request for comments on an information collection for NHTSA's Fatality Analysis Reporting System. The document contained incorrect burden estimates.

FOR FURTHER INFORMATION CONTACT: For additional information, contact Barbara Rhea, State Data Reporting Systems Division (NSA-120), Room W53-304, 1200 New Jersey Avenue SE, Washington, DC 20590. Ms. Rhea can be reached via email at barbara.rhea@dot.gov or via phone at 202-366-2714.

SUPPLEMENTARY INFORMATION:

Correction

This notice is to correct burden hour estimates included in a notice requesting comments on an Information Collection (84 FR 17449). In the Federal Register of April 25, 2019, in FR Doc. 2019-08340, on page 17450, in the first column, correct “Estimated Total Annual Burden Hours: 104,244 hours” to “Estimated Total Annual Burden Hours: 106,244 hours” and, at the end of the paragraph directly under “Estimated Total Annual Burden Hours: 106,244 hours,” add, “However, the States' overhead cost include on average 2,000 hours spent by supervisors responding to FARS that are not counted in the coding hours every year. Thus, the total estimated annual burden is 106,244 hours.”

Issued in Washington, DC.
Cem Hatipoglu,
Acting Associate Administrator for the National Center for Statistics and Analysis.

[FR Doc. 2019-08729 Filed 4-29-19; 8:45 am]

BILLING CODE 4910-59-P